DEPARTMENT OF COMMERCE

International Trade Administration

[A-475-801, A-412-801]

Ball Bearings and Parts Thereof from Italy and the United Kingdom: Initiation of Antidumping Duty Changed-Circumstances Reviews

AGENCY: Import Administration, International Trade Administration, Department of Commerce.

SUMMARY: The Department of Commerce has received information sufficient to warrant initiation of changed-circumstances reviews of the antidumping duty orders on ball bearings and parts thereof from Italy and the United Kingdom pursuant to section 751(b) of the Tariff Act of 1930, as amended.

EFFECTIVE DATE: March 9, 2007.

FOR FURTHER INFORMATION CONTACT: Kristin Case at (202) 482-3174 or Richard Rimlinger at (202) 482-4477, AD/CVD Operations, Office 5, Import Administration, International Trade Administration, U.S. Department of Commerce, 14th Street and Constitution Avenue, NW, Washington, DC 20230.

SUPPLEMENTARY INFORMATION:

Background

The Department of Commerce (the Department) published antidumping duty orders on ball bearings and parts thereof from Italy and the United Kingdom on May 15, 1989. See Antidumping Duty Orders: Ball Bearings and Cylindrical Roller Bearings and Parts Thereof From Italy, 54 FR 20903 (May 15, 1989), and Antidumping Duty Orders and Amendments to the Final Determinations of Sales at Less Than Fair Value: Ball Bearings and Cylindrical Roller Bearings and Parts Thereof From the United Kingdom, 54 FR 20910 (May 15, 1989).

On August 11, 2000, the Department revoked the antidumping duty order on ball bearings and parts thereof from Italy with respect to Somecat S.p.A. (Somecat). See Antifriction Bearings (Other Than Tapered Roller Bearings) and Parts Thereof From France, Germany, Italy, Japan, Romania, Singapore, Sweden, and the United Kingdom; Final Results of Antidumping Duty Administrative Reviews and Revocation of Orders in Part, 65 FR 49219 (August 11, 2000).¹ On July 12, 2001, the Department revoked the antidumping duty order on ball bearings and parts thereof from the United Kingdom with respect to SNFA UK. See Antifriction Bearings (Other Than Tapered Roller Bearings) and Parts Thereof From France, Germany, Italy, Japan, Sweden, and the United Kingdom: Final Results of Antidumping Duty Administrative Reviews and Revocation of Orders in Part, 66 FR 36551 (July 12, 2001).

¹ The Department had determined previously that Somecat bearings are marked “SNFA Italy” (Antifriction Bearings (Other Than Tapered Roller Bearings) and Parts Thereof From France, Germany, Italy, Japan, Romania, Sweden, and the United Kingdom; Final Results of Antidumping Duty Administrative Reviews, 64 FR 35590 (July 1, 1999), and accompanying Issues and Decision Memorandum at Comment 1 in Section 11.B).

On January 9, 2007, Somecat S.p.A., a subsidiary of Societe Nouvelle de Fabrication Aeronautique S.A.S.U. (SNFA), and SKF Industries S.p.A. (SKF Italy) notified the Department of a change in ownership of SNFA.² On January 26, 2007, SNFA Bearings Ltd. (SNFA UK), a subsidiary of SNFA, and SKF UK Ltd. filed a similar notification. Specifically, Somecat, SNFA UK, SKF Italy, and SKF UK notified the Department that, on July 4, 2006, through its subsidiary SKF Holding France S.A., AB SKF purchased all outstanding shares of SNFA. Somecat and SKF Italy stated that, because Somecat and SKF Italy will continue to operate as separate and distinct businesses, Somecat is not the successor-in-interest to SKF Italy nor is SKF Italy a successor-in-interest to the pre-acquisition Somecat. Accordingly, SKF Italy and Somecat asserted, it would be inappropriate to assign the SKF Italy cash-deposit rate to entries of subject merchandise from Somecat. SNFA UK and SKF UK stated that, because SNFA UK and SKF UK will continue to operate as separate and distinct businesses until a planned relocation of SNFA UK's manufacturing facilities occurs later in 2007, SNFA UK is not the successor-in-interest to SKF UK nor is SKF UK the successor-in-interest to the pre-acquisition SNFA UK. Accordingly, SKF UK and SNFA UK asserted, it would be inappropriate to assign the SKF UK cash-deposit rate to entries of subject merchandise from SNFA UK.

² In response to a request by Societe Nouvelle de Fabrication Aeronautique S.A.S.U., SKF France S.A., and SKF Aerospace France S.A.S., the Department has initiated a changed- circumstances review of the antidumping duty order on ball bearings and parts thereof from France. See Ball Bearings and Parts Thereof From France: Initiation of an Antidumping Duty Changed-Circumstances Review, 72 FR 9513 (March 2, 2007).

We did not receive any other comments.

Scope of the Order

The products covered by these orders are ball bearings and parts thereof. These products include all bearings that employ balls as the rolling element. Imports of these products are classified under the following categories: antifriction balls, ball bearings with integral shafts, ball bearings (including radial ball bearings) and parts thereof, and housed or mounted ball bearing units and parts thereof.

Imports of these products are classified under the following Harmonized Tariff Schedules of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

As a result of recent changes to the Harmonized Tariff Schedule, effective February 2, 2007, the subject merchandise is also classifiable under the following additional HTS item numbers: 8708.30.5090, 8708.40.7500, 8708.50.7900, 8708.50.8900, 8708.50.9150, 8708.50.9900, 8708.80.6590, 8708.94.75, 8708.95.2000, 8708.99.5500, 8708.99.68, and 8708.99.8180.

Although the HTSUS item numbers above are provided for convenience and customs purposes, written descriptions of the scope of these orders remain dispositive.

For a listing of scope determinations which pertain to the order on ball bearings and parts thereof, see the Scope Determination Memorandum (Scope Memorandum) from the Antifriction Bearings Team to Laurie Parkhill, dated March 2, 2006. The Scope Memorandum is on file in the Central Records Unit (CRU), main Commerce building, Room B-099, in the General Issues record (A-100-001) for the 2004/2005 administrative reviews of the orders on antifriction bearings.

Initiation of Changed-Circumstances Reviews

Pursuant to section 751(b)(1) of the Tariff Act of 1930, as amended (the Act), the Department will conduct a changed-circumstances review upon receipt of information concerning, or a request from an interested party for a review of, an antidumping duty order which shows changed circumstances sufficient to warrant a review of the order. Although SKF Italy, SKF UK, Somecat, and SNFA UK assert that conduct of changed-circumstances reviews for the Italy and United Kingdom proceedings would be premature, we disagree and determine that the information submitted demonstrates changed circumstances sufficient to warrant reviews of the antidumping duty orders on ball bearings and parts thereof from Italy and the United Kingdom. For example, SKF Italy and Somecat acknowledge a degree of overlapping production and state that, in instances where both utilize a common supplier, attempts have been made to renegotiate prices based on their combined purchasing power. Further, SKF UK's and SNFA UK's statement that a plan to relocate SNFA UK's production facilities is being developed indicates that production planning and production management decisions may have changed as a result of AB SKF's purchase of SNFA. Finally, SKF Italy, SKF UK, Somecat, and SNFA UK state that SNFA Group management now reports to SKF Group management. Accordingly, we cannot conclude, as requested by SNFA UK and SKF UK, that SNFA UK is not the successor-in-interest to SKF UK nor is SKF UK the successor-in-interest to the pre-acquisition SNFA UK. Similarly, we cannot conclude, as requested by Somecat and SKF Italy, that Somecat is not the successor-in-interest to SKF Italy nor is SKF Italy a successor-in-interest to the pre-acquisition Somecat. Therefore, in accordance with section 751(b)(1) of the Act, the Department is initiating changed-circumstances reviews of the antidumping duty orders on ball bearings and parts thereof from Italy and the United Kingdom.

Therefore, in accordance with 19 CFR 351.221(b)(2) and (4) and 19 CFR 351.221(c)(3)(i), we will issue questionnaires requesting factual information for the reviews and will publish a notice of preliminary results of the antidumping duty changed-circumstances reviews in the Federal Register. The notice will set forth the factual and legal conclusions upon which our preliminary results are based. Pursuant to 19 CFR 351.221(b)(4)(ii), interested parties will have an opportunity to comment on the preliminary results of the reviews. During the course of these antidumping duty changed-circumstances reviews, we will not change the cash-deposit requirements for the subject merchandise. The cash-deposit rates will be altered, if warranted, pursuant only to the final results of these reviews.

This notice of initiation is in accordance with section 751(b)(1) of the Act and (d), and 19 CFR 351.221(b)(1).

Dated: March 5, 2007.
Stephen J. Claeys,
Deputy Assistant Secretary for Import Administration.

[FR Doc. E7-4290 Filed 3-8-07; 8:45 am]

BILLING CODE 3510-DS-S